DEPARTMENT OF TRANSPORTATION

Federal Aviation Administration

Public Notice of Airport Development Aid Program (ADAP) and Airport Improvement Program (AIP) Property Release Hillsboro Airport, Hillsboro, Oregon

AGENCY: Federal Aviation Administration (FAA), Department of Transportation.

ACTION: Notice of request to release Airport Development Aid Program and Airport Improvement Program Property.

SUMMARY: Notice is being given that the FAA is considering a request from the Port of Portland, Oregon to waive the ADAP and AIP property requirements and dispose of approximately 15.7 acres of airport property located at Hillsboro Airport, in Hillsboro, Oregon.

DATES: Comments are due within 30 days of the date of the publication of this notice in the Federal Register. Emailed comments can be provided to Mr. Tim House, Lead Planner, Seattle Airports District Office, timothy.a.house@faa.gov.

FOR FURTHER INFORMATION CONTACT: Tim House, Lead Planner, Seattle Airports District Office, 2200 S 216 St., Des Moines, WA 98198, timothy.a.house@faa.gov, (206) 231-4248. Documents reflecting this FAA action may be reviewed at the above locations.

SUPPLEMENTARY INFORMATION: The subject property is located north of the airport and separated from the aeronautical area by Evergreen Road. This release will allow the Port of Portland to sell 15.7 acres. The proceeds generated from the proposed release will be utilized for maintenance and capital improvements that support aeronautical activities. The Port of Portland, Oregon will receive not less than fair market value for the property. It has been determined through study that the subject 15.7 acres will not be needed for aeronautical purposes.

Authority: 49.U.S.C. 47153(c).

Issued in Des Moines, Washington on November 14, 2024.
Manson Wong,
Acting Manager, Seattle Airports District Office.

[FR Doc. 2024-27031 Filed 11-19-24; 8:45 am]

BILLING CODE 4910-13-P